DEPARTMENT OF THE TREASURY

Submission for OMB Review; Comment Request

November 12, 2010.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before December 20, 2010 to be assured of consideration.

Bureau of the Public Debt (BPD)

OMB Number: 1535-0112.

Type of Review: Extension without change of a currently approved collection.

Title: Sale and Issue of Marketable Book-Entry Treasury Bills, Notes and Bonds.

Abstract: Information needed in order to process tender and to ensure compliance with Treasury Auction Rules.

Respondents: Individuals and Households.

Estimated Total Burden Hours: 1 hour.

OMB Number: 1535-0128.

Type of Review: Extension without change of a currently approved collection.

Title: Direct Deposit Sign-Up Form.

Form: PD F 5396.

Abstract: Used to process payment data to the financial institution.

Respondents: Individuals and Households.

Estimated Total Burden Hours: 3,060 hours.

OMB Number: 1535-0069.

Type of Review: Revision of a currently approved collection.

Title: Treasury Direct Forms.

Forms: 5261, 5181, PD F 5189, PD F 5178, PD F 5179-1, PD F 5180, PD F 5381, PD F 5179, PD F 5182, PD F 5236, PD F 5235, PD F 5188, PD F 5191.

Abstract: Used to purchase and maintain Treasury Bills, Notes and Bonds.

Respondents: Individuals and Households.

Estimated Total Burden Hours: 25,018 hours.

Bureau Clearance Officer: Bruce Sharp, Bureau of the Public Debt, 200 Third Street, Parkersburg, West Virginia 26106; (304) 480-8112.

OMB Reviewer: Shagufta Ahmed, Office of Management and Budget, New Executive Office Building, Room 10235, Washington, DC 20503; (202) 395-7873.

Celina Elphage,
Treasury PRA Clearance Officer.

[FR Doc. 2010-29151 Filed 11-18-10; 8:45 am]

BILLING CODE 4810-39-P